CONSUMER PRODUCT SAFETY COMMISSION

[Docket No. CPSC 2012-0030]

Submission for OMB Review; Comment Request—Flammability Standards for Carpets and Rugs

AGENCY: Consumer Product Safety Commission.

ACTION: Notice.

SUMMARY: In the Federal Register of June 8, 2012 (74 FR 34027), the Consumer Product Safety Commission (CPSC or Commission) published a notice in accordance with provisions of the Paperwork Reduction Act of 1995 (44 U.S.C. Chapter 35), to announce the CPSC's intention to seek extension of approval of collections of information in regulations implementing two flammability standards for carpets and rugs. No comments were received in response to that notice. Therefore, by publication of this notice, the Commission announces that it has submitted to the Office of Management and Budget (OMB) a request for extension of approval of those collections of information, without change.

ADDRESSES: To ensure that comments on the information collection are received, the OMB recommends that written comments be faxed to the Office of Information and Regulatory Affairs, OMB, Attn: CPSC Desk Officer, Fax: 202-395-6974, or emailed to oira_submission@omb.eop.gov. All comments should be identified by Docket No. CPSC-2010-0030. In addition, written comments also should be submitted at http://www.regulations.gov, under Docket No. CPSC-2010-0030, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Mary K. James, Office of Information Technology, U.S. Consumer Product Safety Commission, 4330 East West Highway, Bethesda, MD 20814; Telephone: 301-504-7213 or by email to mjames@cpsc.gov.

SUPPLEMENTARY INFORMATION: Request for Reinstatement of Approval of Collections of Information. The Commission estimates that 120 firms are subject to the information collection requirements for standards related to the surface flammability of carpets and rugs and small carpets and rugs. These firms have elected to issue a guaranty of compliance with the Flammable Fabrics Act (FFA), or they are required to certify compliance of products intended for children under the Consumer Product Safety Act (as amended by the Consumer Product Safety Improvement Act of 2008). The number of tests that a firm issuing a guaranty of compliance would be required to perform each year varies, depending upon the number of carpet styles and the annual volume of production. We estimate that the average firm issuing a continuing guaranty under the FFA is required to conduct a maximum of 200 tests per year. The actual number of tests required by a given firm may vary from one to 200, depending upon the number of carpet styles and the annual production volume. For example, if a firm manufactures 100,000 linear yards of carpet each year, and it consistently has obtained passing test results, then only one test per year is required. For purposes of estimating burden, we have used the midpoint, 100 tests per year. The time required to conduct each test is estimated to be 2.5 hours, plus the time required to establish and maintain the test record. We estimate the total annualized cost/burden to respondents could be as high as 12,000 tests per year, at 2.5 hours per test, or 30,000 hours. The annualized costs to respondents for the hour burden for collection of information is estimated to be as high as $1,837,200, using a mean hourly employer cost-per-hour-worked of $61.24 (Bureau of Labor Statistics (BLS): Total compensation rates for management, professional, and related occupations in private goods-producing industries, December 2011) (30,000 hours x $61.24)).

Dated: August 9, 2012.
Todd A. Stevenson,
Secretary, Consumer Product Safety Commission.

[FR Doc. 2012-19879 Filed 8-13-12; 8:45 am]

BILLING CODE 6355-01-P